INTERNATIONAL TRADE COMMISSION

[Investigation No. 731-TA-1020 (Review)]

Barium Carbonate From China

Determination

On the basis of the record ¹ developed in the subject five-year review, the United States International Trade Commission (Commission) determines, pursuant to section 751(c) of the Tariff Act of 1930 (19 U.S.C. 1675(c)), that revocation of the antidumping duty order on barium carbonate from China would be likely to lead to continuation or recurrence of material injury to an industry in the United States within a reasonably foreseeable time.

¹ The record is defined in sec. 207.2(f) of the Commission's Rules of Practice and Procedure (19 CFR 207.2(f)).

Background

The Commission instituted this review on September 2, 2008 (73 FR 51315) and determined on December 8, 2008 that it would conduct an expedited review (73 FR 77058, December 18, 2008).

The Commission transmitted its determination in this review to the Secretary of Commerce on January 30, 2009. The views of the Commission are contained in USITC Publication 4060 (January 2009), entitled Barium Carbonate from China: Investigation No. 731-TA-1020 (Review).

Issued: March 4, 2009.
By order of the Commission.
Marilyn R. Abbott,
Secretary to the Commission.

[FR Doc. E9-5017 Filed 3-9-09; 8:45 am]

BILLING CODE 7020-02-P